DEPARTMENT OF COMMERCE

Census Bureau

Proposed Information Collection; Comment Request; Census 2010 Participation Survey

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 12, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Nancy A. Bates, U.S. Census Bureau, C2PO, Room 8H491, 4600 Silver Hill Road, Washington, DC 20233 at 301-763-5248 (or via the Internet at Nancy.A.Bates@census.gov).

SUPPLEMENTARY INFORMATION:

I. Abstract

The Census Bureau plans to request clearance to conduct the Census Participation Survey to measure public knowledge, awareness, and perceptions about the 2010 Census. This research is designed to complement previous research conducted for Census 2000 as well as the Census Planning Database (a geographic summary file with Census 2000 response information) to inform the strategic direction of the 2010 Census Integrated Communications Plan (ICP).

Every ten years, the Census Bureau is congressionally mandated to count everyone (citizens and non-citizens) residing in the United States. An accurate count is critical for many reasons including but not limited to:

• Congressional reapportionment,

• Redistricting congressional boundaries;

• Community planning; and

• Distribution of public funds and program development.

The role of the ICP is to increase public awareness and motivate people to respond to the census promptly, saving millions of taxpayer dollars. The specific objectives of the ICP are:

• Increase mail response;

• Improve cooperation with enumerators; and

• Improve overall accuracy and reduce differential undercount

For the first time in Census 2000, the Census Bureau ran a paid advertising campaign to support Census data collection activities. This campaign was considered a very successful initiative and one of several reasons cited with helping to reverse declining mail response rates. In developing the 2000 campaign, the Census Bureau relied on one's likelihood to engage in civic activities as a proxy to one's likelihood to respond to the census. The campaign was built on the slogan, “This is your Future. Don't leave it blank.” The intent of this slogan and related variations was to incite a sense of personal benefit, community benefit, and infer a sense of urgency. The target mail response rate for the 2010 Census has been set at 69 percent, higher than the 67 percent obtained in Census 2000. To support this goal, the ICP includes a communications campaign based on behavior during the 2000 Census and current knowledge, attitudes, perceptions, barriers, and motivations specific to 2010 Census participation. This model will provide contemporary insight into public motivations specific to the census. There are many commonalities to Census 2000 such as low Census favorability; lack of awareness and personal relevancy; and many motivators that were leveraged in 2000 still resonate. However, the social and political landscape has shifted since Census 2000 and the Census Bureau is facing new challenges such as:

• Distrust in government is higher than ever;

• Confidentiality issues heightened;

• Shifting core values (quality of life; family values);

• Definition of community is broadening;

• Recent debates on immigration; and

• Increased language barriers.

The purpose of the Census Participation Survey is to inform tactical and strategic decisions for the ICP. The collected data will not be used to produce official Census Bureau estimates.

II. Method of Collection

The Census Participation Survey will be administered to a sample of adults. Most interviews will be selected though random-digit-dialing and administered via Computer Assisted Telephone Interviewing (CATI), while a small portion of the interviews will be conducted in-person. Some of the CATI interviews will be conducted on the respondent's cell phone. A $10 gift will be provided to respondents as compensation for costs (inbound charges) incurred from the cell phone interview. Additionally, a $10 gift will be provided to respondents to the in-person interview to increase the response rate. When an address is available, respondents will be notified of the data collection with a pre-notification letter. The Census Participation Survey will focus on the following topic areas:

• Awareness about the census and attitudes and perceptions about the Census Bureau;

• Barriers and motivations for census participation;

• Potential 2010 Census messaging alternatives;

• Current issues and their relevancy to census participation;

• Individual-level participation in Census 2000 (self-reported) and participation intent for the 2010 Census; and

• Demographics, socioeconomics, and psychographics.

III. Data

OMB Control Number: None.

Form Number: CPS-2008.

Type of Review: Regular submission.

Affected Public: Individuals or households.

Estimated Number of Respondents: 4,000.

Estimated Time per Response: 25 minutes.

Estimated Total Annual Burden Hours: 1,667.

Estimated Total Annual Cost: There is no cost to the respondents other than their time.

Respondent's Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 6, 2007.
Gwellnar Banks,
Management Analyst, Office of the Chief Information Officer.

[FR Doc. E7-24199 Filed 12-13-07; 8:45 am]

BILLING CODE 3510-07-P